DEPARTMENT OF AGRICULTURE

Forest Service

Central Idaho Resource Advisory Committee; Salmon-Challis National Forest; Butte, Custer, and Lemhi Counties, ID

AGENCY: Forest Service, USDA Forest Service.

ACTION: Notice of meeting of the Resource Advisory Committee.

SUMMARY: The Central Idaho Resource Advisory Committee will meet at 5 p.m., September 4, 2002 at the Lost River Ranger District Office, Mackay, Idaho. The 15-member committee will evaluate proposed resource projects for recommendation to the Salmon-Challis National Forest , using funds made available through Title II of the Secure Rural Schools and Community Self-determination Act. The meeting is open to the public and time will be scheduled for public comments.

The Central Idaho Resource Advisory Committee was established by the Secretary of Agriculture under Title II of the Secure Rural Schools and Community Self-Determination Act of 2000 to work collaboratively with the Salmon-Challis National Forest to provide advice and recommendations consistent with the purposes of the Act.

George P. Matejko,
Forest Supervisor, Salmon-Challis National Forest, Designated Federal Official.

[FR Doc. 02-21403 Filed 8-21-02; 8:45 am]

BILLING CODE 3410-11-M